DEPARTMENT OF DEFENSE

Department of the Navy

Notice of Intent To Prepare an Environmental Impact Statement/Environmental Impact Report for the Santa Margarita River Conjunctive Use Project, San Diego County, CA; Correction

AGENCIES: Department of the Navy, DOD. Bureau of Reclamation, DOI.

ACTION: Notice; Correction.

SUMMARY: The Department of the Navy published a document in the Federal Register on November 1, 2004, announcing its intent to prepare an Environmental Impact Statement/Environmental Impact Report for the Santa Margarita River Conjunctive Use Project, San Diego County, CA and that there would be three public meetings to collect scoping comments. It should have stated there would be two public meetings to collect scoping comments.

FOR FURTHER INFORMATION CONTACT: Bureau of Reclamation, Mr. Bill Rohwer, telephone 951-695-5310, fax 951-695-5319, or E-Mail: wrohwer@lc.usbr.gov.

Correction

In the Federal Register of November 1, 2004, in FR Doc. 69-210, on page 63374, in the second column, correct the Summary caption to read:

Two public meetings will be held to collect scoping comments.

Dated: December 15, 2004.
J.H. Wagshul,
Commander, Judge Advocate General's Corps, U.S. Navy, Federal Register Liaison Officer.

[FR Doc. 04-27853 Filed 12-20-04; 8:45 am]

BILLING CODE 3810-FF-P